DEPARTMENT OF COMMERCE

International Trade Administration

[A-469-817]

Ripe Olives From Spain: Preliminary Results of Antidumping Duty Administrative Review; 2019-2020

AGENCY: Enforcement and Compliance, International Trade Administration, Department of Commerce.

SUMMARY: The Department of Commerce (Commerce) preliminarily finds that producers or exporters subject to this administrative review made sales of subject merchandise at less than normal value during the period of review (POR), August 1, 2019, through July 31, 2020. We invite interested parties to comment on these preliminary results.

DATES: Applicable September 7, 2021.

FOR FURTHER INFORMATION CONTACT: Jacob Keller or Christopher Williams, AD/CVD Operations, Office I, Enforcement and Compliance, International Trade Administration, U.S. Department of Commerce, 1401 Constitution Avenue NW, Washington DC 20230; telephone: (202) 482-4849 or (202) 482-5166, respectively.

SUPPLEMENTARY INFORMATION:

Background

On August 1, 2018, Commerce published in the Federal Register the antidumping duty order on ripe olives from Spain.¹ On October 6, 2020, Commerce initiated the administrative review of the Order for the period of August 1, 2019, to July 31, 2020.² On November 23, 2020, Commerce selected Angel Camacho Alimentacion, S.L. (Angel Camacho) and Agro Sevilla Aceitunas S.Coop. Andalusia (Agro Sevilla) as the mandatory respondents in the administrative review.³ On April 5, 2021, Commerce extended the deadline for issuance of the preliminary results of this review by 120 days, until August 31, 2021, in accordance with 19 CFR 351.213(h)(2).⁴

¹ See Ripe Olives from Spain: Antidumping Duty Order, 83 FR 37465 (August 1, 2018) (Order); see also Ripe Olives from Spain: Notice of Correction to Antidumping Duty Order, 83 FR 39691 (August 10, 2018) (Order).

² See Initiation of Antidumping and Countervailing Duty Administrative Reviews, 85 FR 63081 (October 6, 2020).

³ See Memorandum, “Ripe Olives from Spain: Respondent Selection,” dated November 23, 2020.

⁴ See Memorandum, “Ripe Olives from Spain: Extension of Deadline for Preliminary Results of Antidumping Duty Administrative Review; 2019-2020,” dated April 5, 2021.

Scope of the Order

The merchandise subject to the Order are ripe olives. For a complete description of the scope of this Order, see the Preliminary Decision Memorandum.⁵

⁵ See Memorandum, “Ripe Olives from Spain: Decision Memorandum for Preliminary Results of Antidumping Duty Administrative Review; 2019-2020,” dated concurrently with, and hereby adopted by, this notice (Preliminary Decision Memorandum).

Methodology

Commerce is conducting this review in accordance with section 751(a)(2) of the Act. Export price and constructed export price are calculated in accordance with section 772 of the Act. Normal value is calculated in accordance with section 773 of the Act. For a full description of the methodology underlying our conclusions, see the Preliminary Decision Memorandum. The Preliminary Decision Memorandum is a public document and is made available to the public via Enforcement and Compliance's Antidumping and Countervailing Duty Centralized Electronic Service System (ACCESS). ACCESS is available to registered users at http://access.trade.gov. In addition, a complete version of the Preliminary Decision Memorandum can be found at http://enforcement.trade.gov/frn/index.html. A list of the topics discussed in the Preliminary Decision Memorandum is attached as an appendix to this notice.

Rates for Non-Examined Companies

The statute and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted average of the estimated weighted-average dumping margins established for exporters and producers individually investigated, excluding any zero or de minimis margins, and any margins determined entirely {on the basis of facts available}.” In this review, we preliminarily calculated weighted-average dumping margins for the two mandatory respondents, Angel Camacho and Agro Sevilla, that are not zero, de minimis, or determined entirely on the basis of facts available. Accordingly, Commerce preliminarily assigned to the companies not individually examined, listed in the chart below, a margin of 2.75 percent which is the weighted average of Angel Camacho's and Agro Sevilla's calculated weighted-average margins.⁶

⁶ For more information regarding the calculation of this margin, see Memorandum, “Ripe Olives from Spain: Calculation of the Preliminary Margin for Respondents Not Selected for Individual Examination,” dated concurrently with this notice. As the weighting factor, we relied on the publicly ranged sales data reported in the quantity and value charts submitted by Angel Camacho and Agro Sevilla.

Preliminary Results of Review

We preliminarily determine that the following weighted-average dumping margins exist for the period August 1, 2019, through July 31, 2020:

Producer/exporter | Weighted- average dumping margin (percent)
Agro Sevilla Aceitunas S.COOP Andalusia | 1.48
Angel Camacho Alimentacion S.L | 4.31

Review-Specific Weighted-Average Rate Applicable to the Following Companies:

Producer/exporter | Weighted- average dumping margin (percent)
Aceitunas Guadalquivir, S.L | 2.75
Alimentary Group Dcoop S. Coop. And | 2.75
Internacional Olivarera, S.A | 2.75

Disclosure and Public Comment

We intend to disclose the calculations performed to parties within five days after public announcement of the preliminary results.⁷ Pursuant to 19 CFR 351.309(c), interested parties may submit case briefs no later than 30 days after the date of publication of this notice. Rebuttal briefs, limited to issues raised in the case briefs, may be filed not later than seven days after the date for filing case briefs.⁸ Commerce modified certain of its requirements for serving documents containing business proprietary information until further notice.⁹ Parties who submit case briefs or rebuttal briefs in this proceeding are encouraged to submit with each argument: (1) A statement of the issue; (2) a brief summary of the argument; and (3) a table of authorities.¹⁰

⁷ See 19 CFR 351.224(b).

⁸ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect).”).

⁹ See Temporary Rule Modifying AD/CVD Service Requirements Due to COVID-19; Extension of Effective Period, 85 FR 41363 (July 10, 2020).

¹⁰ See 19 CFR 351.309(c)(2) and (d)(2).

Pursuant to 19 CFR 351.310(c), interested parties who wish to request a hearing must submit a written request to the Assistant Secretary for Enforcement and Compliance, filed electronically via ACCESS. Requests should contain: (1) The party's name, address, and telephone number; (2) the number of participants; and (3) a list of issues to be discussed. Issues raised in the hearing will be limited to those raised in the respective case briefs. An electronically filed hearing request must be received successfully in its entirety by Commerce's electronic records system, ACCESS, by 5:00 p.m. Eastern Time within 30 days after the date of publication of this notice.

Commerce intends to issue the final results of this administrative review, including the results of its analysis of the issues raised in any written briefs, not later than 120 days after the date of publication of this notice, unless extended, pursuant to section 751(a)(3)(A) of the Act and 19 CFR 351.213(h)(1).

Assessment Rates

Upon completion of the final results, Commerce shall determine, and U.S. Customs and Border Protection (CBP) shall assess, antidumping duties on all appropriate entries. If either of the respondents' weighted-average dumping margin is not zero or de minimis (i.e., less than 0.50 percent) in the final results of this review, we intend to calculate an importer-specific assessment rate based on the ratio of the total amount of dumping calculated for each importer's examined sales and the total entered value of those same sales in accordance with 19 CFR 351.212(b)(1).¹¹ If either of the respondents' weighted-average dumping margin or an importer-specific assessment rate is zero or de minimis in the final results of review, we intend to instruct CBP not to assess duties on any entries in accordance with the Final Modification for Reviews.¹² The final results of this administrative review shall be the basis for the assessment of antidumping duties on entries of merchandise covered by the final results of this review and for future deposits of estimated duties, where applicable.¹³

¹¹ See Antidumping Proceedings: Calculation of the Weighted-Average Dumping Margin and Assessment Rate in Certain Antidumping Proceedings: Final Modification, 77 FR 8101, 8103 (February 14, 2012).

¹² Id. at 8102-03; see also 19 CFR 351.106(c)(2).

¹³ See section 751(a)(2)(C) of the Act.

For entries of subject merchandise during the POR produced by either of the individually examined respondents for which they did not know that the merchandise was destined to the United States, we will instruct CBP to liquidate unreviewed entries at the all-others rate if there is no rate for the intermediate company(ies) involved in the transaction.¹⁴

¹⁴ For a full discussion of this practice, see Antidumping and Countervailing Duty Proceedings: Assessment of Antidumping Duties, 68 FR 23954 (May 6, 2003).

For the companies identified above that were not selected for individual examination, we will instruct CBP to liquidate entries at the rates established after the completion of the final results of review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of administrative review for all shipments of olives from Spain entered, or withdrawn from warehouse, for consumption on or after the date of publication as provided by section 751(a)(2) of the Act: (1) The cash deposit rate for companies subject to this review will be equal to the company-specific weighted-average dumping margin established in the final results of the review; (2) for merchandise exported by a company not covered in this review but covered in a prior segment of the proceeding, the cash deposit rate will continue to be the company-specific rate published in the completed segment for the most recent period; (3) if the exporter is not a firm covered in this review, a prior review, or the original investigation but the producer is, the cash deposit rate will be the rate established in the completed segment for the most recent period for the producer of the merchandise; (4) the cash deposit rate for all other producers or exporters will be the all-others rate established in the less-than-fair-value investigation for this proceeding, 19.98 percent.¹⁵ These cash deposit requirements, when imposed, shall remain in effect until further notice.

¹⁵ See Ripe Olives from Spain: Final Affirmative Determination of Sales at Less Than Fair Value, 83 FR 28193 (June 18, 2018).

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

We are issuing and publishing these results in accordance with sections 751(a)(1) and 777(i)(1) of the Act and 19 CFR 351.221.

Dated: August 31, 2021.
Ryan Majerus,
Deputy Assistant Secretary for Policy and Negotiations.

Appendix

List of Topics Discussed in the Preliminary Decision Memorandum

I. Summary

II. Background

III. Scope of the Order

IV. Rate for the Respondents Not Selected for Individual Examination

V. Discussion of the Methodology

VI. Currency Conversion

VII. Recommendation

[FR Doc. 2021-19258 Filed 9-3-21; 8:45 am]

BILLING CODE 3510-DS-P